DEPARTMENT OF STATE

[Public Notice 12881]

30-Day Notice of Proposed Information Collection: Request for Department of State Personal Identification Card

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to January 22, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to John Ferguson, who may be reached on (202) 247-0511 or at Fergusonjm3@state.gov.

SUPPLEMENTARY INFORMATION:

• Title of Information Collection: Request for Department of State Personal Identification Card.

• OMB Control Number: 1405-0232.

• Type of Request: Renewal of a currently approved collection.

• Originating Office: Diplomatic Security, Domestic Operations, Security Support Division (DS/DO/DFP/SSD Security Support.

• Form Number: DS-1838 and DS-7783.

• Respondents: Department employees and contractors.

• Estimated Number of Respondents: 13,500.

• Estimated Number of Responses: 13,500.

• Average Time per Response: 5 minutes.

• Total Estimated Burden Time: 1, 125 hours per year.

• Frequency: On occasion (when new badge is required, or badge expires).

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The collection of information requested on the DS-1838 and DS-7783 is necessary to comply with:

Homeland Security Presidential Directive 12 (HSPD-12) was issued August 27, 2004, to set policy for a common, reliable, and secure identification standard for federal employees and contractors for accessing federally controlled facilities and federal information systems. In order to keep Federal and other facilities where there is potential for terrorist attacks secure, wide variations in the quality and security of forms of identification need to be eliminated.

Federal Information Processing Standard Publication 201 (FIPS 201) is a United Stated Federal government standard that specifies Personal Identity Verification (PIV) requirements for Federal employees and contractors. The NIST (National Institute of Standards and Technology) Computer Security Division initiated a new program for improving the identification and authentication of Federal employees and contractors for access to Federal facilities and information systems.

All Department employees and contractors are required to submit application for a Personal Identification Card (DS-1838 domestically or DS-7783 overseas) at the time of hire.

Methodology

Information is collected by a form (obtained from MyData forms) or automated badge request (ABR) online.

George Semertsidis,
(Acting) Deputy Assistant Secretar Diplomatic Security Department of State.

[FR Doc. 2025-23637 Filed 12-22-25; 8:45 am]

BILLING CODE 4710-43-P